DEPARTMENT OF COMMERCE

International Trade Administration

[A-570-891]

Hand Trucks and Certain Parts Thereof From the People's Republic of China: Initiation and Preliminary Results of Changed Circumstances Review, and Intent To Revoke Order In Part

AGENCY: Enforcement and Compliance, International Trade Administration, Department of Commerce.

SUMMARY: In response to a request by Positec USA, Inc., and RQ Direct, Inc. (collectively, Positec), and pursuant to section 751(b) of the Tariff Act of 1930, as amended (the Act), and 19 CFR 351.216 and 351.221(c)(3)(ii), the Department of Commerce (the Department) is initiating a changed circumstances review (CCR) of the antidumping duty (AD) order on hand trucks and certain parts thereof (hand trucks) from the People's Republic of China (PRC). Based on the information received, we preliminarily intend to revoke, in part, the Order.¹ Interested parties are invited to comment on these preliminary results.

¹ See Notice of Antidumping Duty Order: Hand Trucks and Certain Parts Thereof From the People's Republic of China, 69 FR 70122 (December 2, 2004) (Order).

DATES: Effective Date: December 1, 2012.

FOR FURTHER INFORMATION CONTACT: Scott Hoefke, or Robert James, AD/CVD Operations, Office VI, Enforcement and Compliance, International Trade Administration, U.S. Department of Commerce, 14th Street and Constitution Avenue NW., Washington, DC 20230; telephone: (202) 482-4947 or (202) 482-0649, respectively.

SUPPLEMENTARY INFORMATION:

Background

On December 2, 2004, the Department published in the Federal Register the AD order on hand trucks from the PRC.² On December 9, 2014, in accordance with sections 751(b) and 751(d)(1) of the Act, 19 CFR 351.216(b), and 19 CFR 351.222(g)(1), Positec, an interested party, requested revocation, in part, of the Order with respect to its WORX Aerocart (Aerocart) as part of a changed circumstances review. Positec requested that the Department conduct the changed circumstances review on an expedited basis pursuant to 19 CFR 351.221(c)(3)(ii). On December 10, 2014, Gleason Industrial Products, Inc. and Precision Products, Inc. (collectively, Petitioners) submitted a statement asserting that Petitioners have no interest in the patented and trademarked product known as the WORX Aerocart being subject to the Order.³ On January 30, 2015, Positec clarified the language for revoking the Order, in part, with respect to Aerocart for this changed circumstances review.⁴ On February 2, 2015, Petitioners assented to the revised description.⁵ On February 12, 2015, Positec, in consultation with Petitioners, further modified the language for revoking the Order, in part, with respect to Aerocart for this changed circumstance review.⁶

² Id.

³ See Petitioners' submission, “Hand Trucks and Certain Parts Thereof From the People's Republic of China: Petitioner's Statement That It Has No Interest In the WORX Aerocart Being Subject to the Order,” dated December 10, 2014 at 1.

⁴ See Positec's submission, “Changed Circumstances Review—Modification Antidumping Duty Order on Hand Trucks and Certain Parts Thereof From the People's Republic of China,” dated 1/30/2015.

⁵ See Petitioners' submission, “Hand Trucks and Certain Parts Thereof From the People's Republic of China: Petitioner's Statement That It Has No Interest In the WORX Aerocart Being Subject to the Order,” dated February 2, 2015.

⁶ See Positec's submission, “Changed Circumstances Review—Modification Antidumping Duty Order on Hand Trucks and Certain Parts Thereof From the People's Republic of China,” dated February 12, 2015.

Scope of the Order

The merchandise subject to this AD order consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.5010 of the Harmonized Tariff Schedule of the United States (HTSUS), although they may also be imported under heading 8716.80.5090. Specific parts of a hand truck, namely the vertical frame, the handling area and the projecting edges or toe plate, or any combination thereof, are typically imported under heading 8716.90.5060 of the HTSUS. Although the HTSUS subheadings are provided for convenience and customs purposes, the Department's written description of the scope is dispositive.

Excluded from the scope are small two-wheel or four-wheel utility carts specifically designed for carrying loads like personal bags or luggage in which the frame is made from telescoping tubular material measuring less than ⅝ inch in diameter; hand trucks that use motorized operations either to move the hand truck from one location to the next or to assist in the lifting of items placed on the hand truck; vertical carriers designed specifically to transport golf bags; and wheels and tires used in the manufacture of hand trucks.

Initiation and Preliminary Results of Changed Circumstances Review

Pursuant to section 751(b)(1) of the Act, the Department will conduct a changed circumstances review upon receipt of information concerning, or a request from an interested party for a review of, a final affirmative determination that resulted in an AD order which shows changed circumstances sufficient to warrant a review. Section 782(h)(2) of the Act and 19 CFR 351.222(g)(1)(i) provide that the Department may revoke an order (in whole or in part) if it determines that producers accounting for substantially all of the production of the domestic like product have expressed a lack of interest in the order, in whole or in part. In addition, in the event the Department determines that expedited action is warranted, 19 CFR 351.221(c)(3)(ii) permits the Department to combine the notices of initiation and preliminary results.

On December 9, 2014, Positec requested the Department conduct a changed circumstances review on an expedited basis. On December 10, 2014, Petitioners filed a letter stating that they did not oppose partial revocation of the Order that is limited to Positec's Aerocart. Petitioners claimed that they are producers accounting for substantially all of the production of the domestic like product and they have no interest in Positec's Aerocart being subject to the scope of the Order. On January 30, 2015, Positec clarified the description of the Aerocart for purposes of this changed circumstances review. On February 2, 2015, Petitioners assented to the revised description. On February 12, 2015, Positec, in consultation with Petitioners, further modified the exclusionary language of the Aerocart for purposes of this changed circumstances review.

Therefore, at the request of Positec and in accordance with sections 751(b)(1) and 751(d)(1) of the Act, 19 CFR 351.216, and 19 CFR 351.222(g)(1), we are initiating this changed circumstances review of hand trucks to determine whether partial revocation of the Order is warranted with respect to this product. In addition, pursuant to 19 CFR 351.221(c)(3)(ii), we determine that expedited action is warranted.

We find that Petitioners' affirmative statement of no interest constitutes a reasonable basis for the conduct of this review. Additionally, our decision to expedite this review pursuant to 19 CFR 351.221(c)(3)(ii) stems from the domestic industry's lack of interest in application of the Order to Positec's Aerocart.

Based on the expression of no interest by Petitioners, and absent any objections by other domestic interested parties, we preliminarily determine that substantially all of the domestic producers have no interest in the continued application of the Order on hand trucks from the PRC to the merchandise that is subject to Positec's request. Therefore, we are notifying the public of our intent to revoke, in part, the Order as it relates to imports of Positec's Aerocart. If we make a final determination to revoke the Order in part, this partial revocation will be retroactively applied to entries of Positec's Aerocart entered or withdrawn from warehouse, for consumption, on or after December 1, 2012, which corresponds to the day following the last day of the most recently completed administrative review under the order.⁷ We intend to modify the scope of the AD order to add the following:

⁷ See Hand Trucks and Certain Parts Thereof From the People's Republic of China: Final Results of Antidumping Duty Administrative Review; 2011-2012, 79 FR 44008 (July 29, 2014).

Excluded from the scope of the order is a multifunction cart that combines, among others, the capabilities of a wheelbarrow and dolly. The product comprises a steel frame than can be converted from vertical to horizontal functionality, two wheels toward the lower end of the frame and two removable handles near the top. In addition to a foldable projection edge in its extended position, it includes a permanently attached steel tub or barrow. This product is currently available under proprietary trade names such as the `Aerocart'.

Public Comment

Interested parties are invited to comment on these preliminary results. Written comments may be submitted no later than 14 days after the publication of this notice. Rebuttals to written comments, limited to issues raised in such comments, may be filed no later than 21 days after the date of publication of this notice. Consistent with 19 CFR 351.309, parties who submit written comments or rebuttal comments in this changed circumstances review are requested to submit with each argument: (1) A statement of the issue; (2) a brief summary of the argument; and (3) a table of authorities. Pursuant to 19 CFR 351.310(c), any interested party may request a hearing within 10 days after publication of this notice.⁸ Further, any hearing, if requested, will be held no later than 25 days after the date of publication of this notice, or the first business day thereafter. Parties will be notified of the time and date of any hearing if requested. All written comments and/or hearing requests must be filed electronically using Enforcement and Compliance's Antidumping and Countervailing Duty Centralized Electronic Service System (ACCESS).⁹ ACCESS is available to registered users at http://access.trade.gov. An electronically-filed document must be received successfully in its entirety by the Department's electronic records system, ACCESS, by 5 p.m. Eastern Time on the date the document is due.

⁸ See 19 CFR 351.303 for general filing requirements.

⁹ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

We intend to issue our final results of this changed circumstances review not later than 270 days after the date on which we initiated the changed circumstances review or within 45 days if all parties agree to our preliminary results, in accordance with 19 CFR 351.216(e).

If final revocation, in part, occurs, we will instruct U.S. Customs and Border Protection to end the suspension of liquidation for the merchandise covered by the revocation on the effective date of the notice of revocation and to release any cash deposit or bond. The current requirement for a cash deposit of estimated AD duties on all subject merchandise will continue unless and until it is modified pursuant to the final results of this changed circumstances review.

This initiation, preliminary results of review and notice are published in accordance with sections 751(b)(1) and 777(i)(1) of the Act and 19 CFR 351.216, 351.221(b)(1) and (4), and 351.222(g).

Dated: February 23, 2015.
Paul Piquado,
Assistant Secretary for Enforcement and Compliance.

[FR Doc. 2015-04279 Filed 3-2-15; 8:45 am]

BILLING CODE 3510-DS-P